NATIONAL SCIENCE FOUNDATION

Advisory Committee for Cyberinfrastructure; Notice of Meeting

In accordance with the Federal Advisory Committee Act (Pub., L. 92-463, as amended), the National Science Foundation (NSF) announces the following meeting:

Name and Committee Code: Advisory Committee for Cyberinfrastructure (25150).

Date and Time: April 19, 2021; 11 a.m.-5 p.m.; April 20, 2021; 11 a.m.-5 p.m.

Place: National Science Foundation, 2415 Eisenhower Avenue, Alexandria, VA 22314.

This meeting will be held virtually. The final meeting agenda and instructions to register will be posted on the ACCI website: https://www.nsf.gov/cise/oac/advisory.jsp.

Type of Meeting: Open.

Contact Person: Amy Friedlander, CISE, Office of Advanced Cyberinfrastructure, National Science Foundation, 2415 Eisenhower Avenue, Alexandria, VA 22314; Telephone: 703-292-8970.

Minutes: May be obtained from the contact person listed above and will be posted within 90-days after the meeting end date to the ACCI website: https://www.nsf.gov/cise/oac/advisory.jsp.

Purpose of Meeting: To advise NSF on the impact of its policies, programs and activities in the OAC community. To provide advice to the Director/NSF on issues related to long-range planning.

Agenda: Updates on NSF wide OAC activities.

Dated: March 22, 2021.
Crystal Robinson,
Committee Management Officer.

[FR Doc. 2021-06229 Filed 3-25-21; 8:45 am]

BILLING CODE 7555-01-P